FEDERAL COMMUNICATIONS COMMISSION

47 CFR Part 73

[DA 18-699; MB Docket No. 18-43; RM-11797]

Radio Broadcasting Services; Connerville, Oklahoma

AGENCY: Federal Communications Commission.

ACTION: Final rule.

SUMMARY: At the request of The Chickasaw Nation, the Audio Division amends the FM Table of Allotments by allotting FM Channel 247A at Connerville, Oklahoma, as a Tribal Allotment and a first local Tribal-owned service to the community. A staff engineering analysis indicates that Channel 247A can be allotted at Connerville, Oklahoma, as proposed, consistent with the minimum distance separation requirements of the Commission's rules with a site restriction 9.40 km (5.84 miles) southwest of the community. The reference coordinates are 34-25-00 NL and 96-43-53 WL.

DATES: Effective August 20, 2018.

FOR FURTHER INFORMATION CONTACT: Adrienne Y. Denysyk, Media Bureau, (202) 418-2700.

SUPPLEMENTARY INFORMATION: This is a synopsis of the Commission's Report and Order, MB Docket No. 18-43, adopted July 5, 2018, and released July 6, 2018. The full text of this Commission decision is available for inspection and copying during normal business hours in the FCC's Reference Information Center at Portals II, CY-A257, 445 12th Street SW, Washington, DC 20554. The full text is also available online at http://apps.fcc.gov/ecfs/. This document does not contain information collection requirements subject to the Paperwork Reduction Act of 1995, Public Law 104-13. The Commission will send a copy of the Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 309, 310, 334, 336, and 339.

2. In § 73.202(b), the table is amended under Oklahoma by adding Connerville, Channel 247A, in alphabetical order to read as follows:

§ 73.202 Table of Allotments.

* * * * *

(b) * * *

Channel No.
* * * * *
Oklahoma
* * * * *
Connerville | 247A
* * * * *

* * * * *

[FR Doc. 2018-15309 Filed 7-17-18; 8:45 am]

BILLING CODE 6712-01-P